INTERNATIONAL TRADE COMMISSION

[Investigation No. 731-TA-287 (Second Review)]

Raw-in-Shell Pistachios From Iran; Revised Schedule for Full Five-Year Review

AGENCY: United States International Trade Commission.

ACTION: Notice.

DATES: Effective March 7, 2017.

FOR FURTHER INFORMATION CONTACT: Mary Messer (202-205-3193), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: On December 9, 2016, the Commission established a schedule for the conduct of the full five-year review (81 FR 90867, December 15, 2016). The Commission is revising its schedule as follows: The Commission will make its final release of information on May 26, 2017 and final party comments are due on May 31, 2017.

For further information concerning this review, see the Commission's notice cited above and the Commission's Rules of Practice and Procedure, part 201, subparts A through E (19 CFR part 201), and part 207, subparts A, D, E, and F (19 CFR part 207).

Authority: This review is being conducted under authority of title VII of the Tariff Act of 1930; this notice is published pursuant to section 207.62 of the Commission's rules.

By order of the Commission.
Issued: March 13, 2017.
William R. Bishop,
Supervisory Hearings and Information Officer.

[FR Doc. 2017-05230 Filed 3-15-17; 8:45 am]

BILLING CODE 7020-02-P